DEPARTMENT OF AGRICULTURE

Office of Partnerships and Public Engagement

Advisory Committee on Minority Farmers

AGENCY: Office of Partnerships and Public Engagement (OPPE), USDA.

ACTION: Notice of public meeting.

SUMMARY: Pursuant to the provisions of the rules and regulations of the United States Department of Agriculture (USDA) and the Federal Advisory Committee Act (FACA), notice is hereby given that a public meeting of the Advisory Committee on Minority Farmers (ACMF) will be convened. During this public meeting, the ACMF will consider USDA programs and policies and their impacts on minority farmers. The ACMF will recommend action-oriented strategies that maximize the participation of minority farmers in USDA programs and services.

DATES: The ACMF public meeting is scheduled for July 23-25, 2024. On Day 1 (July 23) the meeting will take place from 9:00 a.m. to 12:30 p.m. Eastern Daylight Time (EDT). Committee Members will breakout for visits with local stakeholders between 1:00 p.m. and 6:00 p.m. On Days 2 and 3 (July 24 and 25), the public meeting is scheduled from 9:00 a.m. to 4:30 p.m. EDT.

Meeting Pre-Registration

The public is asked to pre-register for the meeting by July 22, 2024, at https://events.intellor.com/?do=register&t=7&p=509151. Once registered you will immediately receive an email that lists separate links for each day should you choose to participate virtually. Your pre-registration should include: your name; organization or interest represented; if you plan to attend in-person or virtually, make oral comments; and if you require special accommodations. USDA will also accept day-of registrations throughout the meeting. Time will be allotted at the end of each morning and afternoon for comments from those attending in person or virtually. USDA will allow as many individual and organizational comments as time permits.

Oral Comments: Persons or organizations may register for one speaking slot per day. All persons wanting to make oral comments during the in-person meeting may check-in each day at the registration table beginning 8:30 a.m. EDT.

Written Comments: Written comments for consideration during the public meeting are requested by or before 3:00 p.m. EDT, June 22, 2024. The ACMF prefers that all written comments be submitted electronically via the pre-registration link or emailed to the person listed in the FOR FURTHER INFORMATION CONTACT section. However, written comments may also be submitted (i.e., postmarked) via first class mail to the address listed in the FOR FURTHER INFORMATION CONTACT section (below) prior to the deadline. Written comments will be accepted up to 7 days after the public meeting. All written public comments received by August 2, 2024, will be compiled for committee members' review.

Availability of Meeting Materials: Please visit https://www.usda.gov/partnerships/advisory-committee-on-minority-farmers to review the agenda, meeting documents (notices), and summary minutes for this meeting.

ADDRESSES: This public advisory meeting will be held at the Tarrytown House Estate on the Hudson, 49 East Sunnyside Lane, Tarrytown, NY 10591. Public attendees are asked to sign-in upon arrival to the Carriage House (meeting room), beginning 8:30 a.m. each day. Onsite public parking is available free of charge.

Virtual Participation: Public participants may also follow the committee proceedings and presentations via the following links listed by date. Please note that for security purposes each link is unique. Meeting ID and passcode is not required.

Day 1: Jul 23, 2024 at 9:00 a.m.-1:00 p.m. EDT; https://events.intellor.com/login/509150

Day 2: Jul 24, 2024 at 9:00 a.m.-5:00 p.m. EDT; https://events.intellor.com/login/509157

Day 3: Jul 25, 2024 at 9:00 a.m.-5:00 p.m. EDT; https://events.intellor.com/login/509158

For listen-only access, the call-in number and code is:

US Toll Free: 888-978-8818 or US Toll: 202-735-3323 Access Code: 5502994#

FOR FURTHER INFORMATION CONTACT: Ms. R. Jeanese Cabrera, Designated Federal Officer, Office of Partnerships and Public Engagement, 1400 Independence Avenue SW, Mail Stop 0601, Room 524-A, Washington, DC 20250; Phone: (202) 720-6350; Email: acmf@usda.gov. Individuals who use telecommunication devices for the deaf (TDD) may call the FCC Telecommunications Relay Service (TRS) at 7-1-1 between 8:00 a.m. and 8:00 p.m., Eastern Standard Time, Monday through Friday.

SUPPLEMENTARY INFORMATION: The Committee was established pursuant to section 14008 of the Food Conservation and Energy Act of 2008, Public Law 110-246, 122 Stat. 1651, 2008 (7 U.S.C. 2279), to ensure that socially disadvantaged farmers (i.e., minority farmers) have equal access to USDA programs. The committee members also advise the Secretary on implementation of section 2501 of the Food, Agriculture, Conservation, and Trade Act of 1990 (the 2501 Program); maximizing the participation of minority farmers and ranchers in USDA programs; and civil rights activities within the Department relative to participants in its programs.

The Secretary appoints a diverse group of committee members who represent the broadest possible range of minority farmers, ranchers, and stakeholders—bringing their lived-experiences to the fore. These representative committee members look closely at challenges and issues adversely affecting many minority farming communities; consider ways to bridge the gap in customer service delivery; examine continued barriers to program participation (e.g., how the USDA might lessen the burdens of process and procedure); and needful action through which minority farmers and ranchers might finally attain equity in agricultural pursuits with USDA assistance.

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken into account the needs of the diverse groups served by the Department, membership shall include, to the extent practicable, individuals with demonstrated ability to represent the many communities, identities, races, ethnicities, backgrounds, abilities, cultures, and beliefs of the American people, including underserved communities.

Agenda: On Day 1 (July 23), the public meeting will begin with Committee member introductions and overview and comments from the Chairperson. The Committee will next hear from the USDA Equity Commission Co-Chairpersons, who will share about the Commission and its accomplishments in the first term and their shared vision for the USDA. Leadership from USDA's Office of the Assistant Secretary for Civil Rights will follow with an opening keynote address. The first day of the public meeting will end at 1:00 p.m. after which the Committee members will visit with local producers in New York State.

On Days 2 and 3 (July 24 and 25), the Committee will review specific topics from its most recent set of recommendations (July 2023). The members will engage with USDA agencies on status updates, discussions on implementation and timelines for recommendations (as appropriate). The following agencies will report out and update the Committee over the course of two days: Farm Service Agency; Office Urban Agriculture and Innovative Production, Rural Development; Agricultural Marketing Services; National Agricultural Statistics Service (Ag Census); Forest Services; National Institutes of Food and Agriculture; Office of the Secretary (OPPE) on topics in outreach and communications; history of the 1890 institutions; and several invited speakers will explore the history, current, and projected conditions affecting minority farming communities. On Day 3 (July 25) the public meeting will end with a moderated discussion led by Equity Commission Members on the topic of contracting with the USDA. On each day there will be opportunities for the public to make statements for the Committee's consideration and will be made a part of the record of both morning and afternoon sessions.

Dated: July 3, 2024.
Cikena Reid,
USDA Committee Management Officer.

[FR Doc. 2024-15069 Filed 7-9-24; 8:45 am]

BILLING CODE 3412-88-P